DEPARTMENT OF TRANSPORTATION

Federal Motor Carrier Safety Administration

[Docket No. FMCSA-2000-7645]

Developing and Implementing a Long-Term Strategy and Performance Plan for Improving Commercial Motor Vehicle, Operator, and Carrier Safety

AGENCY: Federal Motor Carrier Safety Administration (FMCSA), DOT.

ACTION: Notice; request for comments.

SUMMARY: To comply with section 104 of the Motor Carrier Safety Improvement Act of 1999 (MCSIA), the FMCSA developed a draft long-term strategy and performance plan for the period between fiscal years 2002 and 2009. Both the Congress and the Department of Transportation have stated long-term goals for improving commercial motor vehicle safety. This notice asks for public comment on the draft long-term plan. A copy of the plan is available electronically at http://dmses.dot.gov/submit by referencing the docket number at the heading of this document. It is also available electronically at http://spp.fmcsa.dot.gov.

DATES: You should submit your comments to this notice no later than February 28, 2001. We will consider late comments if we can within our tight deadline for action.

ADDRESSES: Mail or hand deliver comments to the U.S. Department of Transportation, Dockets Management Facility, Room PL-401, 400 Seventh Street, SW., Washington, DC 20590, or submit electronically at http://dmses.dot.gov/submit. Please include the docket number that appears in the heading of this document. You can examine and copy comments at the above address from 9 a.m. to 5 p.m., e.t., Monday through Friday, except Federal Holidays. If you want notification of receipt of comments, you must include a self-addressed, stamped postcard or you may print the acknowledgment page that appears after submitting comments electronically.

FOR FURTHER INFORMATION CONTACT: Mr. Bob Proferes, Chief, Strategic Planning and Program Evaluation Division, (202) 366-9220, Federal Motor Carrier Safety Administration (MC-PRS), 400 Seventh Street, SW., Washington, DC 20590-0001. Office hours are from 7:30 a.m. to 4 p.m., e.t, Monday through Friday, except Federal holidays.

SUPPLEMENTARY INFORMATION:

Electronic Access and Filing

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site. Internet users also may find this document at http://spp.fmcsa.dot.gov.

Authority: 49 U.S.C. 322; 49 CFR 1.73.

Dated: February 7, 2001.
Julie Anna Cirillo,
Assistant Administrator and Chief Safety Officer.

[FR Doc. 01-3631 Filed 2-12-01; 8:45 am]

BILLING CODE 4910-EX-P